DEPARTMENT OF ENERGY

Federal Energy Regulatory Commission

Combined Notice of Filings #1

Take notice that the Commission received the following electric corporate filings:

Docket Numbers: EC15-141-000.

Applicants: Vantage Commodities Financial Services II, LLC, Iron Energy LLC.

Description: Application for disposition of jurisdictional facilities of Iron Energy, LLC.

Filed Date: 5/14/15.

Accession Number: 20150514-5227.

Comments Due: 5 p.m. ET 6/4/15.

Docket Numbers: EC15-142-000.

Applicants: energy.me midwest llc, Agera Energy LLC.

Description: Joint Application for Authorization Under Section 203 of the Federal Power Act and Request for Confidential Treatment and Waivers of energy.me midwest llc and Agera Energy LLC.

Filed Date: 5/15/15.

Accession Number: 20150515-5130.

Comments Due: 5 p.m. ET 6/5/15.

Take notice that the Commission received the following electric rate filings:

Docket Numbers: ER10-2137-012; ER15-103-003; ER14-2799-004; ER14-2798-004; ER14-25-008; ER14-2187-006; ER12-645-012; ER12-164-010; ER12-161-011; ER11-4046-011; ER11-4044-012; ER11-3872-013; ER10-2764-011; ER10-2141-012; ER10-2140-012; ER10-2139-012; ER10-2138-012; ER10-2136-009; ER10-2135-009; ER10-2134-009; ER10-2133-012; ER10-2132-011; ER10-2131-012; ER10-2130-011; ER10-2129-009; ER10-2128-011; ER10-2127-011; ER10-2125-012; ER10-2124-011.

Applicants: Beech Ridge Energy LLC, Beech Ridge Energy II LLC, Beech Ridge Energy Storage LLC, Bishop Hill Energy LLC, Bishop Hill Energy III LLC, California Ridge Wind Energy LLC, Forward Energy LLC, Grand Ridge Energy LLC, Grand Ridge Energy II LLC, Grand Ridge Energy III LLC, Grand Ridge Energy IV LLC, Grand Ridge Energy V LLC, Grand Ridge Energy Storage LLC, Gratiot County Wind LLC, Gratiot County Wind II LLC, Grays Harbor Energy LLC, Hardee Power Partners Limited, Invenergy Cannon Falls LLC, Invenergy Nelson LLC, Invenergy TN LLC, Judith Gap Energy LLC, Prairie Breeze Wind Energy LLC, Sheldon Energy LLC, Spindle Hill Energy LLC, Spring Canyon Energy LLC, Stony Creek Energy LLC, Willow Creek Energy LLC, Wolverine Creek Energy LLC, Vantage Wind Energy LLC.

Description: Notification of Change in Facts of Beech Ridge Energy LLC, et. al.

Filed Date: 5/14/15.

Accession Number: 20150514-5219.

Comments Due: 5 p.m. ET 6/4/15.

Docket Numbers: ER10-3071-005; ER10-3074-005; ER10-3075-005; ER10-3076-005; ER10-3077-005; ER15-876-002; ER14-1342-002.

Applicants: CalPeak Power—Border LLC, CalPeak Power—Enterprise LLC, CalPeak Power—Panoche LLC, CalPeak Power—Vaca Dixon LLC, CalPeak Power LLC, Malaga Power, LLC, Midway Peaking, LLC.

Description: Notice of Non-Material Change in Status of the CalPeak Project Companies.

Filed Date: 5/15/15.

Accession Number: 20150515-5122.

Comments Due: 5 p.m. ET 6/5/15.

Docket Numbers: ER12-91-009.

Applicants: Duke Energy Ohio, Inc., Duke Energy Kentucky, Inc., PJM Interconnection, L.L.C.

Description: Compliance filing per 35: Compliance Filing ER12-91 and ER12-92 to be effective 1/1/2012.

Filed Date: 5/15/15.

Accession Number: 20150515-5191.

Comments Due: 5 p.m. ET 6/5/15.

Docket Numbers: ER14-2852-001.

Applicants: Westar Energy, Inc.

Description: Compliance filing per 35: Compliance Filing, Revising Formula Rate Protocols, TFR to be effective 3/1/2015.

Filed Date: 5/14/15.

Accession Number: 20150514-5198.

Comments Due: 5 p.m. ET 6/4/15.

Docket Numbers: ER15-1012-001.

Applicants: L'Anse Warden Electric Company.

Description: Compliance filing per 35: Tariff Amendment to be effective 4/7/2015.

Filed Date: 5/15/15.

Accession Number: 20150515-5085.

Comments Due: 5 p.m. ET 6/5/15.

Docket Numbers: ER15-1718-000.

Applicants: Chanarambie Power Partners, LLC, Condon Wind Power, LLC, Storm Lake Power Partners II, LLC, Storm Lake Power Partners I LLC, Lake Benton Power Partners LLC, ALLETE Clean Energy, Inc., ALLETE, Inc.

Description: § 205(d) rate filing per 35.13(a)(2)(iii): Notice of Non-Material Change in Status to be effective 7/13/2015.

Filed Date: 5/14/15.

Accession Number: 20150514-5195.

Comments Due: 5 p.m. ET 6/4/15.

Docket Numbers: ER15-1719-000.

Applicants: R.E. Ginna Nuclear Power Plant, LLC.

Description: § 205(d) rate filing per 35.13(a)(2)(iii): Normal filing to be effective 4/1/2015.

Filed Date: 5/14/15.

Accession Number: 20150514-5199.

Comments Due: 5 p.m. ET 6/4/15.

Docket Numbers: ER15-1720-000.

Applicants: Southern California Edison Company.

Description: § 205(d) rate filing per 35.13(a)(2)(iii): GIA and Distribution Service Agreement with Golden Solar to be effective 5/16/2015.

Filed Date: 5/15/15.

Accession Number: 20150515-5002.

Comments Due: 5 p.m. ET 6/5/15.

Docket Numbers: ER15-1721-000.

Applicants: energy.me midwest llc.

Description: Initial rate filing per 35.12 Market Based Rate Tariff to be effective 7/15/2015.

Filed Date: 5/15/15.

Accession Number: 20150515-5046.

Comments Due: 5 p.m. ET 6/5/15.

Docket Numbers: ER15-1722-000.

Applicants: Longview Power, LLC.

Description: § 205(d) rate filing per 35.13(a)(2)(iii): Seller Category and Miscellaneous Tariff Revisions to be effective 5/16/2015.

Filed Date: 5/15/15.

Accession Number: 20150515-5081.

Comments Due: 5 p.m. ET 6/5/15.

Docket Numbers: ER15-1723-000.

Applicants: Lost Hills Solar, LLC.

Description: § 205(d) rate filing per 35.13(a)(2)(iii): Lost Hills Solar Tariff Amendment Filing to be effective 5/16/2015.

Filed Date: 5/15/15.

Accession Number: 20150515-5114.

Comments Due: 5 p.m. ET 6/5/15.

Docket Numbers: ER15-1724-000.

Applicants: Blackwell Solar, LLC.

Description: § 205(d) rate filing per 35.13(a)(2)(iii): Blackwell Solar Tariff Amendment Filing to be effective 5/16/2015.

Filed Date: 5/15/15.

Accession Number: 20150515-5119.

Comments Due: 5 p.m. ET 6/5/15.

Docket Numbers: ER15-1725-000.

Applicants: WSPP Inc.

Description: § 205(d) rate filing per 35.13(a)(2)(iii): Normal filing Schedule Q to be effective 7/15/2015.

Filed Date: 5/15/15.

Accession Number: 20150515-5121.

Comments Due: 5 p.m. ET 6/5/15.

Docket Numbers: ER15-1726-000.

Applicants: Geodyne Energy, LLC.

Description: Tariff Withdrawal per 35.15: Geodyne Tariff Cancellation to be effective 5/31/2015.

Filed Date: 5/15/15.

Accession Number: 20150515-5176.

Comments Due: 5 p.m. ET 6/5/15.

Docket Numbers: ER15-1727-000.

Applicants: Nevada Power Company.

Description: § 205(d) rate filing per 35.13(a)(2)(iii): OATT Revisions to Schedule 7 to be effective 7/14/2015.

Filed Date: 5/15/15.

Accession Number: 20150515-5188.

Comments Due: 5 p.m. ET 6/5/15.

Docket Numbers: ER15-1728-000.

Applicants: BIF II Safe Harbor Holdings, LLC.

Description: § 205(d) rate filing per 35.13(a)(2)(iii): BIF II Safe Harbor MBR Filing to be effective 5/16/2014.

Filed Date: 5/15/15.

Accession Number: 20150515-5192.

Comments Due: 5 p.m. ET 6/5/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 15, 2015.
Nathaniel J. Davis, Sr.,
Deputy Secretary.

[FR Doc. 2015-12297 Filed 5-20-15; 8:45 am]

BILLING CODE 6717-01-P